DEPARTMENT OF THE INTERIOR

Bureau of Land Management

[LLORV00000.L10200000.DF0000.LXSSH1050000.17XL1109AF.HAG 17-0058]

Notice of Public Meeting For the Southeast Oregon Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Southeast Oregon Resource Advisory Council (RAC) will meet as indicated below:

DATES: The RAC will hold a public meeting Monday and Tuesday, January 30 and 31, 2017. The meeting on January 30th will begin at 12:00 p.m. and end at 5:00 p.m. The meeting on January 31st will begin at 8:00 a.m. and end at 12:00 p.m. The agenda will be released online at http://www.blm.gov/or/rac/seorrac.php prior to the meeting. Tentative agenda items for the meeting include updates on the Tri-State Fuels Project, Lands with Wilderness Characteristics. Any other matters that may reasonably come before the RAC may also be addressed. A public comment period will be available during the meeting at a time to be determined. Unless otherwise approved by the RAC Chair, the public comment period will last no longer than 30 minutes, and each speaker may address the RAC for a maximum of 5 minutes. Meeting times and the duration scheduled for public comment periods may be extended or altered when the authorized representative considers it necessary to accommodate necessary business and all who seek to be heard regarding matters before the RAC.

ADDRESSES: The meeting will be held at the Burns BLM offices, 28910 Highway 20, West Hines, OR 97738. The telephone conference line number for the meeting is 1-866-524-6456, Participant Code: 608605.

FOR FURTHER INFORMATION CONTACT: Larisa Bogardus, Public Affairs Specialist, BLM Lakeview District Office, 1301 S G Street, Lakeview, Oregon 97630, (541) 947-6237 or lbogardus@blm.gov. Persons who use a telecommunications device for the deaf (TDD) may call the Federal Relay Service at 1(800) 877-8339 to contact the above individual during normal business hours. The service is available 24 hours a day, 7 days a week, to leave a message or question with the above individual. You will receive a reply during normal business hours.

SUPPLEMENTARY INFORMATION: This RAC consists of 15 members chartered and appointed by the Secretary of the Interior. Their diverse perspectives are represented in commodity, conservation, and general interests. They provide advice to BLM and Forest Service resource managers regarding management plans and proposed resource actions on public land in southeast Oregon. This meeting is open to the public in its entirety. Information to be distributed to the RAC is requested prior to the start of each meeting.

Before including your address, phone number, email address, or other personal identifying information in your comments, please be aware that your entire comment—including your personal identifying information—may be made publicly available at any time. While you can ask us in your comment to withhold your personal identifying information from public review, we cannot guarantee that we will be able to do so.

Shane DeForest,
Acting Vale District Manager.

[FR Doc. 2017-00659 Filed 1-12-17; 8:45 am]

BILLING CODE 4310-33-P